DEPARTMENT OF COMMERCE

National Oceanic and Atmospheric Administration

[I.D. 111004F]

Marine Mammals; File Nos. 393-1772, 545-1761, 587-1767, 1071-1770, 731-1774, 945-1776, 782-1719, 1000-1617

AGENCY: National Marine Fisheries Service (NMFS), National Oceanic and Atmospheric Administration (NOAA), Commerce.

ACTION: Receipt of applications for permits and for permit amendments.

SUMMARY: Notice is hereby given that the following applicants have applied in due form for a permit or permit amendment for scientific research on marine mammals:

Deborah A. Glockner-Ferrari, 39 Woodvine Court, Covington, LA 70433, (File No. 393-1772);

North Gulf Oceanic Society (Craig O. Matkin, Principal Investigator), 2030 Mary Allen Avenue, Homer, AK 99603, (File No. 545-1761);Dan R. Salden, Ph.D., Hawaii Whale Research Foundation, 52 Cheshire Drive, Maryville, IL 62062-1931, (File No. 587-1767);

The Dolphin Institute (Adam A. Pack, Ph.D., Principal Investigator), 420 Ward Avenue, Suite 212, Honolulu, HI 96814, (File No. 1071-1770);

Robin Baird, Ph.D., Cascadia Research, 218 1/2 W. 4th Avenue, Olympia, WA 98501, (File No. 731-1774);

Glacier Bay National Park and Preserve (Christine M. Gabriele, Principal Investigator) P.O. Box 140, Gustavus, AK 99826, (File No. 945-1776);

NMFS, National Marine Mammal Laboratory (NMML), 7600 Sand Point Way, NE, Seattle, WA 98102, (Permit No. 782-1719); and

Whitlow W. L. Au, Ph.D., University of Hawaii, P.O. Box 1106, Kailua, HI 96734 (Permit No. 1000-1617).

DATES: Written, telefaxed, or e-mail comments on the new applications and amendment requests must be received on or before March 21, 2005.

ADDRESSES: The applications and related documents are available for review upon written request or by appointment (See SUPPLEMENTARY INFORMATION).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 393-1772, 545-1761, 587-1767, 1071-1770, 731-1774, 945-1776, 782-1719, or 1000-1617.

FOR FURTHER INFORMATION CONTACT: Carrie Hubard, Amy Sloan, or Ruth Johnson, (301)713-2289.

SUPPLEMENTARY INFORMATION: The subject permits and amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-227), and the Fur Seal Act of 1966, as amended (16 U.S.C. 1151 et seq.).

Applications for Permits

Deborah A. Glockner-Ferrari (File No. 393-1772) requests a 5-year permit to continue long-term population studies of humpback whales (Megaptera novaeangliae) on their winter breeding grounds with a particular emphasis on defining life histories, documenting behavior and recording distribution. Incidental observations would be made of additional cetacean species, including false killer whales (Pseudorca crassidens), short-finned pilot whales (Globicephala macrorhynchus), killer whales (Orcinus orca), bottlenose dolphins (Tursiops truncatus), spinner dolphins (Stenella longirostris), and pantropical spotted dolphins (Stenella attenuata). Takes would occur by close approach for vessel surveys, photo-identification, behavioral observation, video recording, passive acoustic recording, underwater observation, collection of sloughed skin, and incidental harassment. Research would take place in waters off Hawaii with emphasis on the waters of the Auau Channel within the four island region of Maui, Lanai, Kahoolawe, and Molokai.

North Gulf Oceanic Society (File No. 545-1761) requests a 5-year permit to continue population studies on numerous cetacean species with a particular emphasis on killer whales. The research would specifically focus on gathering data to study: (1) mating and social systems and feeding behavior of killer whales; and (2) diving behavior, feeding, movement and contaminant loads of several cetacean species, including killer whales, gray whales (Eschrichtius robustus), harbor porpoise (Phocoena phocoena), Dall's porpoise (Phocoenoides dalli), Pacific white-sided dolphins (Lagenorhynchus obliquidens), Baird's beaked whale (Berardius bairdii), Cuvier's beaked whale (Ziphius cavirostris), and Stejneger's beaked whale (Mesoplodon stejnergeri). Takes would occur by close approach for vessel surveys, photo-identification, behavioral observation, passive acoustic recording, tagging, biopsy sampling, collection and export of dead parts, and incidental harassment. Collection of dead parts from the above species and humpback whales, minke whales (Balaenoptera acutorostrata), Steller sea lions (Eumetopias jubatus), harbor seals (Phoca vitulina), and Northern fur seals (Callorhinus ursinus) would take place during killer whale predation studies. No biopsy sampling would take place on large whale calves less than six months of age or females accompanying such calves. Research would take place in waters off Alaska with a concentration in Glacier Bay/Icy Strait, Sitka Sound, Prince William Sound, Kenai Fjords, Resurrection Bay, Eastern Aleutian chain, and Kodiak Island. Most research would be performed between the months of May and September. Mention other whale species??

Dan R. Salden, Ph.D. (File No. 587-1767) requests a 5-year permit to continue studies of long-term social affiliations among humpback whales. Incidental observations would be made of additional cetacean species, including false killer whales, short-finned pilot whales, killer whales, bottlenose dolphins, spinner dolphins, and pantropical spotted dolphins. Takes would occur by close approach for vessel surveys, photo-identification, behavioral observation, passive acoustic recording, underwater observation, collection of sloughed skin, and incidental harassment. Research would take place in waters off Hawaii and Alaska, primarily off the islands of Maui (especially between 20°46′N and 21°N in the Auau Channel), Hawaii (especially off the Kona Coast), Molokai (including the area known as the Penguin Banks), Lanai, Kauai, and Kahoolawe, and in southeastern Alaska (especially in the Frederick Sound, Chatham Strait, Seymour Canal, and Stephens Passage areas).

The Dolphin Institute (Adam A. Pack, Ph.D., Principal Investigator) (File No. 1071-1770) requests a 5-year permit to continue long-term population studies of humpback whales and other cetacean species in the Eastern, Western, and Central North Pacific Ocean. These studies would include: (1) photo-identification of individuals to determine individual life histories, social role, migration, habitat use, distribution, and reproductive status; (2) underwater videogrammetry to determine the sizes of animals in different social roles and how size affects or is correlated with the social role adopted, and to derive estimations of sexual maturity of animals; (3) underwater videography to document behaviors and aid in sex determination; (4) song recording and observation of singers to determine song source levels and propagation characteristics; (5) Crittercam studies of animals in competitive groups and in dyads, and of singers, to help in the understanding of the mating system; and (6) skin biopsy sampling for sex determination and individual identification to accompany and supplement Crittercam information. Takes are also requested for other cetacean species, including bottlenose dolphins, spinner dolphins, false killer whales, melon-headed whales (Peponocephala electra), pygmy killer whales (Feresa attenuata), rough-toothed dolphins (Steno bredanensis), pilot whales, striped dolphins (Stenella coeruleoalba), pygmy and dwarf sperm whales (Kogia spp.), killer whales, sperm whales (Physeter macrocephalus), Blainville's beaked whales (Mesoplodon densirostris), spotted dolphins, Cuvier's beaked whales, fin whales (Balaenoptera physalus), and blue whales (Balaenoptera musculus). The applicant is requesting that biopsy sampling takes be authorized on humpback whale calves less than 6 months of age and/or females accompanying such calves. Research would take place in waters of the Eastern, Central, and Western North Pacific Ocean, with a primary focus on the winter and summer grounds of the three North Pacific humpback whale stocks. This includes waters off the main Hawaiian Islands (primary study area) and along the rim of the North Pacific from California northward to Southeast Alaska and then westward through the Gulf of Alaska, Aleutian Islands, and regions of the upper western Pacific. Research would also take place in Japanese waters off the Mariana, Bonin (Ogasawara), and Ryukyuan islands.

Robin Baird, Ph.D. (File No.731-1774) requests a 5-year permit to conduct research on all cetacean species in U.S. and international waters in the Pacific Ocean, including Alaska, Washington, Oregon, California, Hawaii, and other U.S. territories. The purposes of the proposed research are to study: (1) diving and night-time behavior; (2) population assessment; and (3) social organization and inter-specific interactions of cetaceans. Incidental harassment of all species of cetaceans may occur through vessel approach for sighting surveys, photographic identification, and behavioral research, and aerial over-flights for the purpose of locating animals and conducting aerial validation studies. Individuals of all cetacean species, with the exception of North Pacific right whales, may have a suction-cup tag attached and be tracked. Dive data (using suction-cup attached tags) will provide a quantitative estimate of time animals are at the surface and available to be seen during visual surveys, as well as to examine other aspects of behavior (e.g., diurnal patterns, reactions to vessel approaches, and/or acoustic behavior). Photo-identification data will be used in population assessment through mark-recapture population estimation and in studies of stock structure involving movements of individuals. Small numbers of pinnipeds including California sea lions (Zalophus californianus), harbor seals, northern elephant seals (Mirounga angustirostris), and Steller sea lions may be incidentally harassed from research activities. Import of skeletal parts from beach-cast specimens from Canada and export of skin tissue samples obtained from suction-cups is requested for research purposes.

Glacier Bay National Park and Preserve (Christine M. Gabriele, Principal Investigator) (File No. 945-1776) requests a 5-year permit to continue population studies on numerous cetacean species with a particular emphasis on humpback, minke, and killer whales. The research would focus on gathering data to study ecology, behavior and population status to enhance management objectives for these species in and around the Glacier Bay National Park and Preserve, Alaska. Takes would occur by close approach by vessel survey for photo-identification, behavioral observation, passive acoustic recording, collection of sloughed skin and feces, prey sampling, and incidental harassment. Research would take place in waters of and around Glacier Bay with the main study area including a 70-mile (113 km) radius centered at the mouth of Glacier Bay (58°20′N 13°00′W.). Research would mainly take place annually primarily during the months of April-November.

Amendment Requests

Permit No. 782-1719-00 issued on June 30, 2004 (69 FR 44514) authorizes NMMLthe Holder to take all species of cetaceans under NMFS jurisdiction during stock assessment activities throughout U.S. territorial waters and the high seas of the North Pacific Ocean, Southern Ocean, Arctic Ocean, and the territorial waters of Mexico (Gulf of California only), Canada, Russia, Japan and the Philippines. The Permit specifically authorizes close approach during Level B harassment (aerial surveys, vessel-based surveys, observations, and photo-identification), and Level A harassment (biopsy sampling and attachment of scientific instruments). Activities are authorized for all age and sex classes with the exception of biopsy sampling of calves less than 6 months of age and accompanying females. The Holder now requests authority to increase the number of humpback whales to be biopsy sampled to 500 in the Western North Pacific stock, 2000 in the Central North Pacific stock, and 1000 in the Eastern North Pacific stock. The Holder also requests that NMFS reconsider its earlier decision and allow biopsy sampling of large whale calves less than 6 months of age (with the exception of neonates) and attending females. The Holder has submitted additional information and justification for this activity. The Holder also requests authority to increase the number of humpback whales to be biopsy sampled to 500 in the Western North Pacific stock, 2000 in the Central North Pacific stock, and 1000 in the Eastern North Pacific stock. The amendment, if issued, would remain valid until the permit expires June 30, 2009.

Permit No. 1000-1617-01 issued to Whitlow Au, Ph.D. on June 22, 2001 (66 FR 34155) authorizes behavioral observations, photo-identification, genetic sampling, and suction-cup tagging of small cetaceans in Hawaii and California, focused primarily on spinner dolphins. The objectives of the research are to investigate population structure, genetic variability, dispersal patterns, social structure, and foraging and diving behavior. The Permit Holder is now requesting a 5-year amendment to expand the small cetacean research by increasing the number of individuals of each species that can be suction-cup tagged from three to 80. Furthermore, the Holder wishes to add a new project that will focus on large whale behavior and use of the acoustic environment by studying humpback whales, killer whales, and Cuvier's and Blainville's beaked whales (Ziphius cavirostris and Mesoplodon densirostris). Males and females of all ages and reproductive status of requested species would be closely approached by vessel for photo-identification, behavioral observations, underwater observation and videography, and passive acoustic recording. For biopsy sampling and suction-cup tagging, males and females of all ages would be sampled or tagged, with the exception of calves under 6 months of age and females attending such calves. In the case of humpback whales only: the suction-cup tags, with a desired attachment duration of 6 hours, may include an acoustic transponder. The tag would emit a high-frequency pulse, above the theoretical hearing range of the whales, to assist the researchers in tracking the tagged individual. Research would take place in U.S. and international waters off Hawaii and California. The amended permit, if issued, would be valid for 5 years.

Concurrent with the publication of this notice in the Federal Register, NMFS is forwarding copies of these applications to the Marine Mammal Commission and its Committee of Scientific Advisors.

All documents may be reviewed in the following locations:

Permits, Conservation and Education Division, Office of Protected Resources, NMFS, 1315 East-West Highway, Room 13705, Silver Spring, MD 20910; phone 301)713-2289; fax (301)713-0376; and

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, Protected Species Coordinator, Pacific Area Office, NMFS, 1601 Kapiolani Blvd., Suite 1110, Honolulu, HI 96814-4700; phone (808)973-2935; fax (808)973-2941.

Dated: February 11, 2005.
Stephen L. Leathery,
Chief, Permits, Conservation and Education Division, Office of Protected Resources, National Marine Fisheries Service.

[FR Doc. 05-3093 Filed 2-16-05; 8:45 am]

BILLING CODE 3510-22-S